FEDERAL HOUSING FINANCE AGENCY

[No. 2010-N-16]

Agency Information Collection Activities; Proposals, Submissions, and Approvals

AGENCY: Federal Housing Finance Agency.

ACTION: Submission of information collection for Approval from the Office of Management and Budget.

SUMMARY: The Federal Housing Finance Agency (FHFA) has submitted to the Office of Management and Budget (OMB) for emergency review, revisions to the information collection, “Survey of FHLBank Economic Development Programs,” OMB No. 2590-0010. Specifically, FHFA requests review of the use of surveys at an agency-sponsored conference being held October 25-26, 2010. The surveys will be used for open-forum discussions at the conference, and will be distributed prior to the conference with the intent that they will help to initiate and focus the discussions. The surveys are part of the collection of information that was previously submitted for emergency review and subsequently approved on August 19, 2010, under OMB No. 2590-0010, in connection with open-forum discussions that were held in August and September, 2010. Since that approval, one of the surveys has been substantively revised for its use in October, therefore FHFA is requesting emergency review of these revisions, in addition to the general use of the surveys in October. This revision did not result in a change in burden. The collection of information is due to expire April 30, 2011. To allow interested persons to comment on this information collection, FHFA is publishing this notice and plans to submit a request for a three-year extension of OMB's approval. Comments regarding this information collection should be addressed to the Office of Information and Regulatory Affairs of OMB, Attention: Desk Officer for the Federal Housing Finance Agency, Washington, DC 20503, Fax: 202-395-6974, E-mail: OIRA_Submission@omb.eop.gov. Please also submit comments to FHFA using any one of the following methods and include “Comments: Survey of FHLBank Economic Development Programs, No. 2010-N-16” as the subject:

• E-mail: RegComments@fhfa.gov;

• Federal eRulemaking Portal: http://www.regulations.gov.

• U.S. Mail/Hand Delivery: Federal Housing Finance Agency, Fourth Floor, 1700 G Street, NW., Washington, DC 20552.

We will post all public comments we receive without change, including any personal information you provide, such as your name and address, on the FHFA Web site at http://www.fhfa.gov. In addition, copies of all comments received will be available for examination by the public on business days between the hours of 10 a.m. and 3 p.m., at the Federal Housing Finance Agency, Fourth Floor, 1700 G Street, NW., Washington, DC 20552. To make an appointment to inspect comments, please call the Office of General Counsel at 202-414-6924.

DATES: Written comments should be received on or before December 27, 2010 to be assured of consideration.

FOR FURTHER INFORMATION CONTACT: For additional information about this information collection, or to obtain a copy with applicable supporting documentation, contact Charles McLean, Associate Director, Office of Housing and Community Investments, (202) 408-2537, Charles.McLean@fhfa.gov.

Overview of the Information Collection

Title of the Collection: Survey of FHLBank Economic Development Programs.

OMB No.: 2590-0010,

Expires: April 30, 2011.

Need and Use of the Information Collection: The Office of Housing and Community Investment (OHCI) of FHFA is conducting research and outreach initiatives to determine ways to enhance the Federal Home Loan Banks' (FHLBanks) capacity to meet the nation's unmet economic development credit needs. At the conclusion of these processes, OHCI expects to propose for public comment amendments to the Community Investment Cash Advance (CICA) Regulation in late 2011. Amending the regulation will update the regulatory standards to reflect current community and economic development investment strategies and priorities, and clarify a regulation that may be difficult to apply.

OHCI is conducting research and outreach initiatives in two phases. The first phase consisted of two on-line surveys and open-forum discussion sessions held in August and September 2010 at Federal Home Loan Banks in Pittsburgh, San Francisco, Atlanta, Boston, Dallas, and Des Moines. The open-forum discussion sessions were attended by approximately 120 community and economic development practitioners and experts from all segments of the community development field.

This request for an emergency ICR approval is for the second phase of the research and outreach initiatives. OHCI will host an Economic Development Conference in October 2010. This conference will be attended by OHCI staff, FHLBank staff and approximately 100 individuals representing economic development organizations from all segments of the community development field. Participants will discuss current and future national economic development issues, financing challenges, opportunities in the field, and best practices. OHCI staff will send four surveys electronically. At the conference, OHCI staff will conduct concurrent open-forum discussions and use the survey responses to initiate the discussions. The discussions will center on opportunities and challenges in using FHLBank financing to fund economic development projects and activities that will create jobs and spur economic growth. Information from the discussions at the FHLBanks and at the conference will be used to inform OHCI how the CICA regulation may be enhanced.

Affected Public: Private sector.

Costs: FHFA estimates that there will be no annualized capital/start-up costs for the respondents to collect and submit this information.

Type of Respondents: Federal Home Loan Bank Members, Economic and Community Development Trade Associations, State and Local Economic Development Authorities, and Economists.

Annual Burden Estimates for Respondents
Instrument | Number of respondents | Number of responses per respondent | Average burden per response (minutes) | Total average burden per response (minutes) | Total annual burden hours
Survey Questions for Economic and Community Development Trade Associations (For Oct. conference) | 25 | × 1 | × 15 | = 375 | 6.25 hours (375/60 mins).
Survey Questions for State and Local Economic Development Authorities (For Oct. conference) | 25 | × 1 | × 15 | = 375 | 6.25 hours (375 mins/60 mins).
Survey Questions for Economists (For Oct. conference) | 25 | × 1 | × 15 | = 375 | 6.25 hours (375 mins/60 mins).
Survey Questions for FHLBank Member Lenders (For Oct. conference) | 25 | × 1 | × 15 | = 375 | 6.25 hours (375/60 mins).
Survey Questions for Economic Development Organizations (For Aug.-Sep. Open-Forum discussions) | 60 (10 per each location) | × 1 | × 15 | = 900 | 15 hours (900 mins/60 mins).
Survey Questions for FHLBank Member Lenders (For Aug.-Sep. Open-Forum discussions) | 60 (10 per each location) | × 1 | × 15 | = 900 | 15 hours (900 mins/60 mins)

Dated: October 20, 2010.
Edward J. DeMarco,
Acting Director, Federal Housing Finance Agency.

[FR Doc. 2010-27075 Filed 10-25-10; 8:45 am]

BILLING CODE 8070-01-P